DEPARTMENT OF ENERGY

Federal Energy Regulatory Commission

Notice of FERC Staff Attendance at the Southwest Power Pool Board of Directors/Members Committee Meeting

March 23, 2010.

The Federal Energy Regulatory Commission hereby gives notice that members of its staff may attend the meeting of the Southwest Power Pool (SPP) Board of Directors/Members, as noted below. Their attendance is part of the Commission's ongoing outreach efforts.

SPP Board of Directors/Members Committee Meeting

March 31, 2010 (10:30 a.m.-2:30 p.m.), Hyatt Regency DFW, N. International Parkway Terminal C, DFW Airport, TX 75261. 972-453-1234.

The discussions may address matters at issue in the following proceedings:

Docket No. EL09-40, Southwest Power Pool, Inc.

Docket No. ER06-451, Southwest Power Pool, Inc.

Docket No. ER08-923, Xcel Energy Services, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1359, Southwest Power Pool, Inc.

Docket No. ER08-1419, Southwest Power Pool, Inc.

Docket No. ER09-35, Tallgrass Transmission LLC

Docket No. ER09-36, Prairie Wind Transmission LLC

Docket No. ER09-659, Southwest Power Pool, Inc.

Docket No. ER09-1050, Southwest Power Pool, Inc.

Docket No. ER09-1254, Southwest Power Pool, Inc.

Docket No. ER09-1255, Southwest Power Pool, Inc.

Docket No. ER09-1397, Southwest Power Pool, Inc.

Docket No. ER09-1716, Southwest Power Pool, Inc.,

Docket No. ER10-352, Southwest Power Pool, Inc.

Docket No. OA08-5, Southwest Power Pool, Inc.

Docket No. OA08-60, Southwest Power Pool, Inc.

Docket No. OA08-61, Southwest Power Pool, Inc.

Docket No. OA08-104, Southwest Power Pool, Inc.

Docket No. ER10-664, Southwest Power Pool, Inc.

Docket No. ER10-678, Southwest Power Pool, Inc.

Docket No. ER10-680, Southwest Power Pool, Inc.

Docket No. ER10-681, Southwest Power Pool, Inc.

Docket No. ER10-692, Southwest Power Pool, Inc.

Docket No. ER10-693, Southwest Power Pool, Inc.

Docket No. ER10-694, Southwest Power Pool, Inc.

Docket No. ER10-696, Southwest Power Pool, Inc.

Docket No. ER10-697, Southwest Power Pool, Inc.

Docket No. ER10-698, Southwest Power Pool, Inc.

Docket No. ER10-700, Southwest Power Pool, Inc.

Docket No. ER10-738, Southwest Power Pool, Inc.

Docket No. ER10-739, Southwest Power Pool, Inc.

Docket No. ER10-754, Southwest Power Pool, Inc.

Docket No. ER10-760, Southwest Power Pool, Inc.

Docket No. ER10-761, Southwest Power Pool, Inc.

Docket No. ER10-762, Southwest Power Pool, Inc.

Docket No. ER10-773, Southwest Power Pool, Inc.

Docket No. ER10-795, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. 2010-6980 Filed 3-29-10; 8:45 am]

BILLING CODE 6717-01-P